DEPARTMENT OF ENERGY

Federal Energy Regulatory Commission

[Project No. 14980-000]

Lock+TM Hydro Friends Fund XXVIII, LLC; Notice of Surrender of Preliminary Permit

Take notice that Lock+TM Hydro Friends Fund XXVIII, LLC, permittee for the proposed Nockamixon Dam Hydropower Project, has requested that its preliminary permit be terminated. The permit was issued on January 7, 2020 and would have expired on December 31, 2023.¹ The project would have been located at the Pennsylvania Department of Conservation and Natural Resources' Nockamixon Dam on Tohickon Creek in Bucks County, Pennsylvania.

¹ 170 FERC ¶ 62,007 (2020).

The preliminary permit for Project No. 14980 will remain in effect until the close of business, June 2, 2022. But, if the Commission is closed on this day, then the permit remains in effect until the close of business on the next day in which the Commission is open.² New applications for this site may not be submitted until after the permit surrender is effective.

² 18 CFR 385.2007(a)(2) (2021).

Dated: May 3, 2022.
Kimberly D. Bose,
Secretary.

[FR Doc. 2022-09898 Filed 5-6-22; 8:45 am]

BILLING CODE 6717-01-P